DEPARTMENT OF HEALTH AND HUMAN SERVICES

Health Resources and Services Administration

Meeting of the Advisory Committee on Infant and Maternal Mortality; Correction

AGENCY: Health Resources and Services Administration (HRSA), Department of Health and Human Services.

ACTION: Notice; correction.

SUMMARY: HRSA published a notice in the Federal Register of October 12, 2023, concerning a meeting of the Advisory Committee on Infant and Maternal Mortality. The document contained incorrect location information. The notice originally stated that the meeting would be held in person at HRSA Headquarters (5600 Fishers Lane, Room 5W07, Rockville, Maryland, 20857) and virtually via webinar. The meeting will now be fully virtual via webinar and not held in person. The webinar link and log-in information will be available at the Committee's website before the meeting: https://www.hrsa.gov/advisory-committees/infant-mortality/index.html.

FOR FURTHER INFORMATION CONTACT: Vanessa Lee, MPH, Designated Federal Official, Maternal and Child Health Bureau, HRSA, 5600 Fishers Lane, Room 18N84, Rockville, Maryland, 20857; 301-443-0543; or SACIM@hrsa.gov.

SUPPLEMENTARY INFORMATION:

Correction

In the Federal Register of October 12, 2023, FR Doc. 2023-22509, page 70682, column 1, Addresses section, paragraph 1, correct “This meeting will be held in person at HRSA Headquarters (5600 Fishers Lane, Room 5W07, Rockville, Maryland, 20857) and virtually via webinar” to read: “This meeting will be held by webinar.”

Maria G. Button,
Director, Executive Secretariat.

[FR Doc. 2023-24080 Filed 10-31-23; 8:45 am]

BILLING CODE 4165-15-P